NATIONAL AERONAUTICS AND SPACE ADMINISTRATION

[Notice (13-055)]

Government-Owned Inventions, Available for Licensing

AGENCY: National Aeronautics and Space Administration.

ACTION: Notice of Availability of Inventions for Licensing.

SUMMARY: Patent applications on the inventions listed below assigned to the National Aeronautics and Space Administration, have been filed in the United States Patent and Trademark Office, and are available for licensing.

DATES: May 20, 2013.

FOR FURTHER INFORMATION CONTACT: Mark W. Homer, Patent Counsel, NASA Management Office—JPL, 4800 Oak Grove Drive, Mail Stop 180-200, Pasadena, CA 91109; telephone (818) 354-7770.

NASA Case No.: NPO-48413-1: Multi-Gb/s Laser Communications Terminal for Mini-Spacecraft;

NASA Case No.: NPO-48539-1: Neutral Mounting of Whispering Gallery Mode Resonators for Suppression of Acceleration-Induced Frequency Fluctuations;

NASA Case No.: DRC-012-011: System and Method for Air Launch From a Towed Aircraft;

NASA Case No.: DRC-012-005: Method and Apparatus of Multiplexing and Acquiring Data from Multiple Optical Fibers using a Single Data Channel of an Optical Frequency-Domain Reflectrometry (OFDR) System;

NASA Case No.: DRC-012-006: Cryogenic Liquid Level Sensor Apparatus and Method;

NASA Case No.: DRC-011-002: Magneto-Optic Field Coupling in Optical Fiber Bragg Gratings.

Sumara M. Thompson-King,
Deputy General Counsel.

[FR Doc. 2013-11943 Filed 5-17-13; 8:45 am]

BILLING CODE 7510-13-P